DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: November 5, 2003, 9 a.m.-2:45 p.m.; November 6, 2003, 10 p.m.-3:00 p.m.

Place: Hubert H. Humphrey Building, 200 Independence Avenue, SW., Room 505A, Washington, DC 20201.

Status: Open.

Purpose: At this meeting the Committee will hear presentations and hold discussions on several health data policy topics. On the morning of the first day the full Committee will hear updates and status reports from the Department on several topics including HHS Data Council activities, the adoption of data standards including clinical data standards, and privacy rule compliance. A presentation on summary health measures is also planned with subsequent discussion. In the afternoon there will be a discussion of recommendations, reports and letters that the Committee is working on in selected areas including patient medical record information standards, the Consolidated Healthcare Informatics Initiative, ICD-10 CM, and activities directly relating to the Health Insurance Portability and Accountability Act of 1996 (HIPAA.) The Committee also plans to hear about activities of the Subcommittee on Populations during this session. On the second day the Committee will discuss its quality report and hear a presentation on the planned National Children's Study. There will also be reports from the Subcommittees and discussion of agendas for future NCVHS meetings.

The time shown above are for the full Committee meeting. Subcommittee breakout sessions are scheduled for late in the afternoon of the first day and in the morning prior to the full Committee meeting on the second day. Agendas for these breakout sessions will be posted on the NCVHS Web site (URL below) when available.

For Further Information Contact: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www/ncvhs.hhs.gov/, where further information including an agenda will be posted when available.

Should you require reasonable accommodation, please contact the CDC Office of Equal Employment Opportunity on (301) 458-4EEO (4336) as soon as possible.

Dated: October 27, 2003.
James Scanlon,
Acting Deputy Assistant Secretary for Science and Data Policy, Office of the Assistant Secretary for Planning and Evaluation.

[FR Doc. 03-28434 Filed 11-12-03; 8:45 am]

BILLING CODE 4151-05-M